CORPORATION FOR NATIONAL AND COMMUNITY SERVICE

Agency Information Collection Activities; Submission to the Office of Management and Budget for Review and Approval; Comment Request; NCCC Team Leader Application; Proposed Information Collection; Comment Request

AGENCY: Corporation for National and Community Service.

ACTION: Notice.

SUMMARY: The Corporation for National and Community Service (CNCS) has submitted a public information collection request (ICR) entitled NCCC Team Leader Application for review and approval in accordance with the Paperwork Reduction Act of 1995. Copies of this ICR, with applicable supporting documentation, may be obtained by calling the Corporation for National and Community Service, Charles Davenport, at 202-606-7516 or email to cdavenport@cns.gov. Individuals who use a telecommunications device for the deaf (TTY-TDD) may call 1-800-833-3722 between 8:00 a.m. and 8:00 p.m. Eastern Time, Monday through Friday.

DATES: Comments may be submitted, identified by the title of the information collection activity, by September 20, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 1, 2017 at 25267. This comment period ended July 30, 2017. No public comments were received from this Notice.

Description: The NCCC Team Leader application was developed to provide information pertinent to the selection of Team Leaders for AmeriCorps NCCC. Specifically, NCCC engages approximately 2800 corps members each year in community service. In order to achieve this goal, NCCC utilizes Team Leaders and Support Team Leaders as project leaders and project developers, as well as on site team supervision and reporting. There is at least one Team Leader for each team of approximately ten Corps Members. The application is available electronically for all Team Leader applicants.

Type of Review: Renewal.

Agency: Corporation for National and Community Service.

Title: NCCC Team Leader Application.

OMB Number: 3045-0005.

Agency Number: None.

Affected Public: AmeriCorps NCCC Team Leader applicants.

Total Respondents: 800.

Frequency: Bi-annual application.

Average Time per Response: 1 hour.

Estimated Total Burden Hours: 1,600.

Total Burden Cost (capital/startup): None.

Total Burden Cost (operating/maintenance): None.

Dated: August 15, 2017.
Charles Davenport,
Director of Outreach, AmeriCorps NCCC.

[FR Doc. 2017-17668 Filed 8-18-17; 8:45 am]

BILLING CODE 6050-28-P